DEPARTMENT OF AGRICULTURE

Natural Resources Conservation Service

Notice of Proposed Change to Section IV of the North Carolina State Technical Guide

AGENCY: Natural Resources Conservation Service (NRCS), U.S. Department of Agriculture.

ACTION: Notice of availability of proposed changes in the North Carolina NRCS State Technical Guide for review and comment.

SUMMARY: It has been determined by the NRCS State Conservationist for North Carolina that changes must be made in the NRCS State Technical Guide specifically in practice standard #330, Contour Farming to account for improved technology. This practice can be used in systems that treat highly erodible land.

DATES: Comments will be received for a 30-day period commencing with this date of publication.

ADDRESSES: Address all requests and comments to Mary K. Combs, State Conservationist, Natural Resources Conservation Service (NRCS), 4405 Bland Rd., Ste. 205, Raleigh, NC 27609. Copies of this standard will be available online for viewing at ftp://ftp-fc.sc.egov.usda.gov/NC/NCweb/Technical/draft-standards/Draft_NC330ContourFarming.pdf. You may submit electronic requests and comments to evelyn.whitesides@nc.usda.gov.

FOR FURTHER INFORMATION, CONTACT: Mary K. Combs, State Conservationist, Natural Resources Conservation Service, 4405 Bland Rd, Ste. 205, Raleigh, NC 27609; 919-873-2101; 919-873-2156.

SUPPLEMENTARY INFORMATION: Section 343 of the Federal Agriculture Improvement and Reform Act of 1996 states that revisions made after enactment of the law to NRCS State technical guides used to carry out highly erodible land and wetland provisions of the law shall be made available for public review and comment. For the next 30 days the NRCS will receive comments relative to the proposed changes. Following that period a determination will be made by the NRCS regarding disposition of those comments and a final determination of change will be made to the subject standard(s).

Dated: February 4, 2008.
Mary K. Combs,
State Conservationist.

[FR Doc. E8-3382 Filed 2-21-08; 8:45 am]

BILLING CODE 3410-16-P